DEPARTMENT OF DEFENSE

Delay in the Implementation of 10 U.S.C. 2227; Electronic Submission and Processing of Claims for Contract Payments

AGENCY: Department of Defense (DoD).

ACTION: Notice of delay in the implementation of 10 U.S.C. 2277.

SUMMARY: This notice announces a delay in implementing 10 U.S.C. 2227, from June 30, 2001, until October 1, 2002. 10 U.S.C. 2227 requires contractors to submit, and DoD to process, electronically all claims for payment under DoD contracts.

FOR FURTHER INFORMATION CONTACT: Mr. Robert Bemben, OUSD(AT&L)DP(EBI), Room 3C128, 3060 Defense Pentagon, Washington, DC 20301-3060. Telephone (703) 695-1097; facsimile (703) 695-7596.

SUPPLEMENTARY INFORMATION: The Floyd D. Spence National Defense Authorization Act for Fiscal Year 2001 (Public Law 106-398) was enacted on October 30, 2000. Section 1008(a) of Public Law 106-398 added 10 U.S.C. 2227 which provides that the Secretary of Defense must require a contractor to submit, and DoD to process, electronically any claim for payment under a DoD contract. DoD must also transmit any supporting documentation electronically within DoD.

Section 1008(c) of Public Law 106-398 stipulates that—

1. The requirement to submit and process claims for payment electronically shall apply to contracts for which solicitations are issued after June 30, 2001;

2. The Secretary of Defense may delay the implementation date to a date after June 30, 2001, but no later than October 1, 2002, upon a finding that it is impracticable to implement 10 U.S.C. 2227 until that later date; and

3. If the Secretary of Defense makes a determination to delay implementation of 10 U.S.C. 2227 beyond June 30, 2001, a notice of the delay shall be published in the Federal Register.

The purpose of this notice is to comply with Section 1008(c)(2)(B) of Public Law 106-398 by announcing a delay in the implementation of 10 U.S.C. 2227, until October 1, 2002, because DoD has made a finding that it is impracticable to implement 10 U.S.C. 2227 prior to that date. Currently, DoD does not have the capability to receive all contractor claims for payment electronically, nor the capability to process all claims and supporting documentation electronically. In addition, DoD must publish changes to the Defense Federal Acquisition Regulation Supplement in order to implement the requirement for contractors to submit all claims for payment electronically. For these reasons, DoD has determined that it is impracticable to implement 10 U.S.C. 2227 prior to October 1, 2002.

Michele P. Peterson,
Executive Editor, Defense Acquisition Regulations Council.

[FR Doc. 01-20948 Filed 8-20-01; 8:45 am]

BILLING CODE 5000-04-M